DEPARTMENT OF THE INTERIOR

Fish and Wildlife Service

[FWS-HQ-IA-2017-N022; FXIA16710900000-167-FF09A30000]

Proposed Information Collection; Federal Fish and Wildlife Permit Applications and Reports—Management Authority

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on May 31, 2017. We may not conduct or sponsor and a person is not required to respond to a collection of information unless it displays a currently valid OMB control number.

DATES: To ensure that we are able to consider your comments on this IC, we must receive them by April 25, 2017.

ADDRESSES: Send your comments on the IC to the Service Information Collection Clearance Officer, U.S. Fish and Wildlife Service, 5275 Leesburg Pike, MS: BPHC, Falls Church, VA 22041-3803 (mail); or madonna_baucum@fws.gov (email). Please include “1018-0093” in the subject line of your comments.

FOR FURTHER INFORMATION CONTACT: Madonna Baucum, at madonna_baucum@fws.gov (email) or (703) 358-2503 (telephone).

SUPPLEMENTARY INFORMATION:

I. Abstract

This information collection covers permit applications and reports that our Division of Management Authority uses to determine the eligibility of applicants for permits requested in accordance with the criteria in various Federal wildlife conservation laws and international treaties. Service regulations implementing these statutes and treaties are in chapter I, subchapter B of title 50, Code of Federal Regulations (CFR). These regulations stipulate general and specific requirements that, when met, allow us to issue permits to authorize activities that are otherwise prohibited.

Information collection requirements associated with the Federal fish and wildlife permit applications and reports are currently approved under three different OMB control numbers: 1018-0093, “Federal Fish and Wildlife Permit Applications and Reports—Management Authority; 50 CFR 12, 13, 14, 15, 16, 17, 18, 21, 23”; 1018-0150, “Renewal of CITES Registration of Commercial Breeding Operations for Appendix I Wildlife and Other CITES Requirements, 50 CFR 17 and 23”; and 1018-0164, “Import of Sport-Hunted African Elephant Trophies, 50 CFR 17.” In this revision of 1018-0093, we will include all of the information collection requirements associated with all three OMB Control Numbers. If OMB approves this revision, we will discontinue OMB Control Numbers 1018-0150 and 1018-0164.

II. Data

OMB Control Number: 1018-0093.

Title: Federal Fish and Wildlife Permit Applications and Reports—Management Authority; 50 CFR 12, 13, 14, 15, 16, 17, 18, 21, 23.

Form Numbers: FWS Forms 3-200-19 through 3-200-37, 3-200-39 through 3-200-44, 3-200-46 through 3-200-53, 3-200-58, 3-200-61, 3-200-64 through 3-200-66, 3-200-69 to 3-200-70, 3-200-73 through 3-200-76, 3-200-80, and 3-200-85 through 3-200-88.

Type of Request: Revision of a currently approved collection.

Description of Respondents: Individuals; biomedical companies; circuses; zoological parks; botanical gardens; nurseries; museums; universities; antique dealers; exotic pet industry; hunters; taxidermists; commercial importers/exporters of wildlife and plants; freight forwarders/brokers; and State, tribal, local, and Federal governments.

Respondent's Obligation: Required to obtain or retain a benefit.

Frequency of Collection: On occasion.

Regulation/activity | Annual respondents | Annual responses | Completion time per response (hours) | Annual burden hours *
ICs from 1018-0093, “Federal Fish and Wildlife Permit Applications and Reports—Management Authority, 50 CFR 12, 13, 14, 15, 16, 17, 18, 21, 23”
Import of Sport-Hunted Trophies—Application (Form 3-200-20) | 66 | 69 | 1 | 69
Import of Sport-Hunted Trophies of Argali—Application (Form 3-200-21) | 118 | 149 | 0.75 | 112
Import of Sport-Hunted Bontebok Trophies from South Africa—Application (Form 3-200-22) | 76 | 77 | 0.33333 | 26
Export of Pre-Convention, Pre-Act, or Antique Specimens (CITES, MMPA, and/or ESA)—Application (Form 3-200-23) | 113 | 181 | 0.75 | 136
Commercial Export of Live Captive-Born Animals (CITES)—Application (Form 3-200-24) | 109 | 326 | 0.75 | 245
Export of Raptors (MBTA and/or CITES)—Application (Form 3-200-25) | 34 | 115 | 1 | 115
Export of Skins of 7 Native Species: Bobcat, lynx, river otter, Alaskan brown bear, Alaskan black bear, Alaskan gray wolf, and American alligator (CITES) (Form 3-200-26) | 45 | 206 | 0.33333 | 69
Export of Wildlife Removed from the Wild (Live/Samples/Parts/Products (CITES))—Application (Form 3-200-27) | 52 | 91 | 0.75 | 68
Export of Trophies by Hunters or Taxidermists (CITES)—Application (Form 3-200-28) | 123 | 222 | 0.5 | 111
Export/Re-export of Wildlife Samples and/or Biomedical Samples (CITES)—Application (Form 3-200-29) | 114 | 387 | 2.5 | 968
Export/Re-export/Re-import of Circuses and Traveling Animal Exhibitions (and Reissuance) (CITES/ESA)—Application (Form 3-200-30) | 24 | 36 | 1 | 36
Annual Report for Exhibition Permittees (Form 3-200-30A) | 36 | 36 | 0.5 | 18
Introduction from the Sea (CITES) (Form 3-200-31) | 3 | 3 | 2 | 6
Export/Re-export of Plants (CITES)—Application (Form 3-200-32) | 92 | 156 | 1 | 156
Export of Artificially Propagated Plants—Application (Form 3-200-33) | 26 | 38 | 2 | 76
Export of American Ginseng—Application (Form 3-200-34) | 49 | 81 | 0.33333 | 27
Import of Wild Collected Appendix 1 Plants (CITES)—Application (Form 3-200-35) | 1 | 1 | 1 | 1
Export/Import/Interstate and Foreign Commerce of Plants (CITES and/or ESA)—Application (Form 3-200-36) | 3 | 3 | 1 | 3
Export/Import/Interstate and Foreign Commerce/Take of Animals (Live/Samples/Parts/Products (CITES and/or ESA)—Application (Form 3-200-37) | 146 | 191 | 2 | 382
Certificate of Scientific Exchange/COSE (CITES)—Application (Form 3-200-39) | 28 | 28 | 1 | 28
Certificate of Scientific Exchange (COSE) Special Reporting Conditions—Report (Form 3-200-39A) | 43 | 43 | 0.5 | 22
Export and Re-export of Museum Specimens—Application (Form 3-200-40) | 5 | 5 | 1 | 5
ESA Museum Permit Report (Form 3-200-40A) | 31 | 31 | 0.5 | 16
Captive-Bred Wildlife Registration/CBW—Application (Form 3-200-41) | 61 | 62 | 2 | 124
Captive-Bred Wildlife Registration Annual Report (Form 3-200-41A) | 541 | 541 | 0.5 | 221
Import/Acquisition/Transport of Injurious Wildlife—Application (Form 3-200-42) | 61 | 78 | 1 | 78
Take/Import/Transport/Export of Marine Mammals or Renewal/Amendment of Existing Permit Application (Form 3-200-43) | 14 | 16 | 2.33 | 37
Registration of an Agency/Tannery (MMPA)—Application (Form 3-200-44) | 4 | 4 | 0.33333 | 1
Registered Agent/Tannery Inventory Report (Form 3-200-44A) | 9 | 9 | 1 | 9
Import/Export/Re-export of Personal Pets (CITES or Wild Bird Conservation Act)—Application (Form 3-200-46) | 248 | 259 | 0.5 | 130
Import of Birds for Scientific Research or Zoological Breeding and Display (WBCA)—Application (Form 3-200-47) | 12 | 14 | 2 | 28
Import of Birds Under an Approved Cooperative Breeding Program (WBCA)—Application (Form 3-200-48) | 5 | 9 | 1 | 9
Approval, Amendment or Renewal of a Cooperative Breeding Program (WBCA) (Form 3-200-49) | 5 | 6 | 3 | 18
Approval of Sustainable Use Management Plan (WBCA)—Application (Form 3-200-50) | <1 | <1 | 10 | <10
Approval of a Foreign Breeding Facility under the WBCA—Application (Form 3-200-51) | <1 | <1 | 8 | <8
Reissuance, Renewal, or Amendment of a Permit—Application (Form 3-200-52) | 326 | 423 | 0.25 | 106
Export/Re-export of Live Captive—Held Marine Mammals (CITES) Application (Form 3-200-53) | 1 | 2 | 2 | 4
Supplemental Application for a Retrospectively Issued Document (CITES)—Application (Form 3-200-58) | 42 | 42 | 1 | 42
American Ginseng Export Program—Report (Form 3-200-61) | 19 | 24 | 43.5 | 1,044
Certificate of Ownership for Personally Owned Wildlife “Pet Passport” (CITES)—Application (Form 3-200-64) | 26 | 92 | 0.5 | 46
Registration of Appendix I Commercial Breeding Operations (CITES) Application (Form 3-200-65) | 1 | 1 | 40 | 40
Replacement Document (CITES,MMPA, WBCA/Lacey Act)—Application (Form 3-200-66) | 50 | 50 | 0.25 | 13
Export/Import/Transport of Bald and Golden Eagle for Scientific or Exhibition Purposes (CITES) (Form 3-200-69) | 2 | 2 | 0.5 | 1
Export/Re-import/Transport of Bald and Golden Eagle for Indian Religious Purposes (CITES) (Form 3-200-70) | 7 | 7 | 0.5 | 4
Re-export of Wildlife (CITES) (Form 3-200-73) | 240 | 1,762 | 0.5 | 881
Single Use Export Permits Under a Master File or an Annual Program File (Form 3-200-74) | 197 | 600 | 0.1 | 60
Registration of a Production Facility for Export of Certain Native Species Application (Form 3-200-75) | 20 | 25 | 0.5 | 13
Export of Caviar or Meat of Paddlefish or Sturgeon Removed from the Wild (CITES) (Form 3-200-76) | 13 | 24 | 3 | 72
Export of Fertilized Live Eggs, Caviar, or Meat from Aquacultured Paddlefish or Sturgeon (CITES) (Form 3-200-80) | 3 | 3 | 3 | 9
Application to Establish a Master File for the Export of Live Captive-Bred Animals (CITES) (Form 3-200-85) | 20 | 38 | 1 | 20
Photography of Marine Mammals Application (Form 3-200-86) | 4 | 5 | 1.5 | 8
Transfer/Transport of Live Captive-Held Marine Mammals (Form 3-200-87) | 25 | 25 | 1 | 25
Musical Instrument Application (Form 3-200-88) | 13 | 15 | 0.5 | 8
Request for Approval of a CITES Export Program (American Ginseng, CITES furbearers, American Alligator) | 2 | 2 | 12 | 24
Report for Furbearer CITES Export Programs | 52 | 52 | 1 | 52
Report for American Alligator CITES Export Program | 10 | 10 | 1 | 10
Participation in the Plant Rescue Center Program—Application | 3 | 3 | 1 | 3
Plant Rescue Program—Report on Receipt and Condition of Specimens | 195 | 250 | 0.5 | 125
ICs from 1018-0150, “Renewal of CITES Registration of Commercial Breeding Operations for Appendix I Wildlife, 50 CFR 23”
Report Take—Grizzly Bears | 25 | 25 | 0.25 | 6
Report Take—Mountain Lions | 15 | 15 | 0.25 | 4
Marking/Labeling of Vicuna Products, Beluga Sturgeon Caviar, and African Elephant Sport-Hunted Trophies | 471 | 601 | 0.5 | 300
Beluga Sturgeon Exemption | 1 | 1 | 16 | 16
Wildlife Hybrid Exemption | 75 | 150 | 0.5 | 75
Exception to Use of CITES Specimens after Import | 250 | 250 | 0.5 | 125
ICs from 1018-0164, “Import of Sport-Hunted African Elephant Trophies, 50 CFR 17”
Import of Sport-hunted Trophies of Southern African Leopard, African Elephant, and Namibian Southern White Rhinoceros—Application (Form 3-200-19) | 513 | 548 | 0.33 | 182
Total: | 4,920 | 8,522 |  | 6,686
* Rounded.

Estimated Annual Nonhour Burden Cost: $840,600.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: February 17, 2017.
Tina A. Campbell,
Chief, Division of Policy, Performance, and Management Programs, U.S. Fish and Wildlife Service.

[FR Doc. 2017-03586 Filed 2-23-17; 8:45 am]

BILLING CODE 4333-15-P